FEDERAL EMERGENCY MANAGEMENT AGENCY

Pre-Disaster Mitigation Program

AGENCY: Federal Insurance and Mitigation Administration, Federal Emergency Management Agency (FEMA).

ACTION: Notice of availability of Pre-Disaster Mitigation planning grants.

SUMMARY: FEMA gives notice of the availability of mitigation planning grants for fiscal year (FY) 2003 under the Pre-Disaster Mitigation (PDM) Program, authorized by section 203 of the Robert T. Stafford Disaster Relief and Emergency Assistance Act (Stafford Act), 42 U.S.C. 5133, as amended by section 102 of the Disaster Mitigation Act of 2000 (DMA), Public Law 106-390, 114 Stat. 1552. Consolidated Appropriations Resolution, 2003, H.J. Res. 2 (February 20, 2003), directs FEMA to provide $250,000 of the FY 2003 appropriation to each of the fifty States, the District of Columbia, Puerto Rico, the Virgin Islands, Guam, and American Samoa for eligible State and local (to include Indian Tribal governments) hazard mitigation planning. However, a general provision in the law directs that every program, project, and activity be reduced by .65 percent. Therefore, the maximum Federal share is $248,375.

FEMA will contribute up to 75 percent of the cost of activities approved for funding up to a maximum of $248,375. At least 25 percent of the total eligible costs must be provided from a non-Federal source. There will be no additional FEMA funding available for cost overruns.

All contributions, cash and in-kind, are accepted as part of the non-Federal matching share. Except as allowed by Federal statute, no other Federal funds can be used as a match. Requirements for in-kind contributions can be found in 44 CFR 13.24. In-kind contributions must be comprised of eligible program costs. The following documentation is required for in-kind contributions: record of source of donor, dates, rates, amounts, and deposit slips (cash contributions only).

Grants awarded to small, impoverished communities may receive a Federal cost share of up to 90 percent of the total cost to implement eligible PDM activities. A small, impoverished community must meet all of the following criteria:

• It must be a community of 3,000 or fewer individuals that is identified by the State as a rural community, and is not a remote area within the corporate boundaries of a larger city;

• It must be economically disadvantaged, with residents having an average per capita annual income not exceeding 80 percent of national per capita income, based on best available data;

• It must have a local unemployment rate that exceeds by one percentage point or more, the most recently reported, average yearly national unemployment rate; and

• It must meet any other factors as determined by the State in which the community is located.

DATES: Each of the fifty States, the District of Columbia, Puerto Rico, the Virgin Islands, Guam, and American Samoa must submit a grant application to the appropriate FEMA Regional Office by April 30, 2003. If an applicant cannot meet the April 30, 2003, application deadline due to budget issues related to cost share, a letter of intent must be submitted to the Regional Director by April 30, 2003. The letter should indicate the intent to submit a FY 2003 PDM planning grant application, include an explanation of relevant budget issues, and provide a list of proposed activities and sub-grantees. Grant applications from applicants that submit a letter of intent by April 30, 2003, are due to FEMA by July 31, 2003.

ADDRESSES: FEMA Regional Offices:

Serving Maine, New Hampshire, Vermont, Rhode Island, Connecticut, and Massachusetts: FEMA Region I, Federal Regional Center, Building A, 63 Old Marlboro Road, Maynard, MA 01754-2147.

Serving New York, New Jersey, Puerto Rico, and the U.S. Virgin Islands: FEMA Region II, 26 Federal Plaza, Rm. 1337, New York, NY 10278-0002.

Serving the District of Columbia, Delaware, Maryland, Pennsylvania, Virginia, and West Virginia: FEMA Region III, 1 Independence Mall, 6th Floor, 615 Chestnut Street, Philadelphia, PA 19106-4404.

Serving Alabama, Florida, Georgia, Kentucky, Mississippi, North Carolina, South Carolina, and Tennessee: FEMA Region IV, 3003 Chamblee Tucker Road, Atlanta, GA 30341.

Serving Illinois, Indiana, Michigan, Minnesota, Ohio, and Wisconsin: FEMA Region V, 536 S. Clark Street, 6th Floor, Chicago, IL 60605.

Serving Arkansas, Louisiana, New Mexico, Oklahoma, and Texas: FEMA Region VI, FRC 800 North Loop 288, Denton, TX 76201-3698.

Serving Iowa, Kansas, Missouri, and Nebraska: FEMA Region VII, 2323 Grand Avenue, Suite 900, Kansas City, MO 64108.

Serving Colorado, Montana, North Dakota, South Dakota, Utah, and Wyoming: FEMA Region VIII, Denver Federal Center, Building 710, Box 25267, Denver, CO 80225-0267.

Serving Arizona, California, Hawaii, Nevada, the Territory of American Samoa, the Territory of Guam, the Commonwealth of the Northern Mariana Islands, the Republic of the Marshall Islands, and the Federated States of Micronesia: FEMA Region IX, Building 105, Presidio of San Francisco, San Francisco, CA 94129-1250.

Serving Alaska, Idaho, Oregon, and Washington: FEMA Region X, Federal Regional Center, 130 228th Street, SW., Bothell, WA 98021-979.

FOR FURTHER INFORMATION CONTACT: Margaret Lawless, Program Planning and Delivery Division, Federal Insurance and Mitigation Administration, FEMA, 500 C Street, SW., Room 401, Washington, DC 20472, (202) 646-3027 or E-mail: Margaret.Lawless@fema.gov.

SUPPLEMENTARY INFORMATION:

Appropriations

Consolidated Appropriations Resolution, 2003, H.J. Res. 2 (February 20, 2003), directs FEMA to provide $250,000 of the $150M appropriated in FY 2003 for each of the fifty States, the District of Columbia, Puerto Rico, the Virgin Islands, Guam, and American Samoa for eligible State and local (to include Indian tribal governments) hazard mitigation planning. However, a general provision in the law directs that every program, project, and activity be reduced by .65 percent. Therefore, the maximum Federal share is $248,375. We are requesting applications for mitigation planning grants from these entities.

Background

44 CFR part 201, Hazard Mitigation Planning, establishes criteria for State and local hazard mitigation planning, pursuant to section 322 of the Stafford Act, as amended by section 104 of the DMA. After November 1, 2003, FEMA-approved local mitigation plans will be required as a condition of receiving Pre-Disaster Mitigation grants for local mitigation project grants. After November 1, 2004, a FEMA-approved Standard State mitigation plan will be required as a condition of receiving Pre-Disaster Mitigation grants for State and local mitigation project activities. The Standard State Mitigation Plan will also be required for non-emergency assistance provided under the Stafford Act, including Public Assistance restoration of damaged facilities and Hazard Mitigation Grant Program funding. Therefore, the development of State and local multi-hazard mitigation plans is key to maintaining eligibility for future FEMA mitigation funding.

For FY 2003 PDM planning funds, awards will be governed by H.J. Res. 2 (February 20, 2003), section 203 of the Stafford Act, this notice, and program guidance, which will be made available to the public on the FEMA Internet site: http://www.fema.gov.

Applicant Eligibility

Each of the fifty States, the District of Columbia, Puerto Rico, the Virgin Islands, Guam, and American Samoa is eligible to apply to FEMA for assistance as a grantee under this Notice of Funds Availability.

Local governments and Indian Tribal governments should consult the official designated point of contact in their State/Territory for more information on the process the State requires to be followed in applying for assistance.

All applicants must be participating in the National Flood Insurance Program (NFIP) if they have been identified through the NFIP as having a Special Flood Hazard Area (a Flood Hazard Boundary Map (FHBM) or Flood Insurance Rate Map (FIRM) has been issued). In addition, the community must not be suspended or on probation from the NFIP (except as directed by H.J. Res 2, February 20, 2003).

Grant Application Process

Local governments and Indian Tribal governments should consult the official designated point of contact in their State for more information on the process the State requires to be followed in applying for assistance.

Each of the fifty States, the District of Columbia, Puerto Rico, the Virgin Islands, Guam, and American Samoa are requested to submit to the appropriate FEMA Regional Office the grant application, which can be obtained from the FEMA Regional Office.

The grant application should include:

• Application for Federal Assistance, Standard Form 424;

• Budget Information—Non-Construction Program, FEMA Form 20-20;

• Budget Narrative explaining cost items that have been budgeted;

• Summary Sheet for Assurances and Certification, FEMA Form 20-16;

• Assurances—Non-Construction Program, FEMA Form 20-16A;

• Certification Regarding Lobbying; Debarment, Suspension and Other Responsible Matters; and Drug-Free Workplace Requirements, FEMA Form 20-16C;

• Disclosure of Lobbying Activities, Standard Form LLL;

• Approved Indirect Cost Agreement, if applicable; and,

• Program Narrative identifying the activities for which funding is requested.

The Program Narrative should include the following:

• Individual planning locations and name of Sub-grantees;

• Individual planning costs, including Federal and non-Federal shares;

• Individual planning scopes of work, including timelines and key milestones;

• Certification that the included planning activities have been evaluated, meet all PDM Program eligibility criteria, and will be implemented in accordance with 44 CFR Part 13, Uniform Administrative Requirements for Grants and Cooperative Agreements to State and Local Governments.

• Assessment of the extent to which communities meet the relevant criteria under section 203(g) of the Stafford Act.

All planning activities included in the Program Narrative should be ranked in order of priority to the grantee.

Eligible Activities

Funds may be used to develop State, Tribal, and local hazard mitigation plans that meet the planning criteria outlined in 44 CFR part 201, which implements § 322 of the Stafford Act. This may include developing countywide or multi-jurisdictional plans (must be adopted by all jurisdictions participating) since many issues are better resolved by evaluating hazards in a more comprehensive fashion. Multi-hazard mitigation planning may include hazards caused by non-natural forces but must be primarily focused on natural hazards. Risk assessments for mitigation plans are also eligible.

As part of the planning grant, up to 10 percent of the funds awarded may be used to fund activities to disseminate information regarding cost-effective mitigation technologies. These activities include marketing, outreach, training and education (including planning workshops), as related to plan development.

Up to 5 percent of the funds awarded may be used to assist in soliciting and reviewing PDM applications and for providing technical assistance to sub-grantees. Sub-grantee management costs to implement awarded activities will be limited to 5 percent of the sub-grant award and may be included as part of the activity costs. Indirect costs should be included as part of management costs, if applicable, and must be supported with a current Indirect Cost Rate approved by a Federal Cognizant Agency.

Reporting Requirements

The following reports are required:

• Federal Cash Transaction Reports. If the Grantee uses the HHS Payment Management System-SMARTLINK, the Grantee shall submit a copy of the PMS 272 Cash Transaction Report submitted to the Federal Health and Human Services (HHS) to FEMA.

• Financial Status Reports. The Grantee shall submit Financial Status Reports, SF 269 or FF 20-10, to the FEMA regional office within 30 days from the end of the first federal quarter following the initial grant award. The Regional Director may waive this initial report. The Grantee shall submit quarterly financial status reports thereafter until the grant ends. Reports are due on January 30, April 30, July 30, and October 30.

• Performance Reports:

1. The Grantee shall submit performance reports (no required format) to the FEMA Regional Office within 30 days after end of each quarter. The report shall consist of a comparison of actual accomplishment to the approved activity objectives. Reports are due January 30, April 30, July 30 and October 30. Final financial reports are due 90 days after the close of the grant. Performance Reports should be submitted to the Assistance Officer, listed under Article V, FEMA Officials.

2. Quarterly performance report shall report the name, completion status, expenditure, and payment-to-date of each approved activity/sub-grant award under the Grant Award.

• Final Reports. The Grantee shall submit a Final Financial Status Report and Performance Report within 90 days from Grant Award Performance Period expiration date, per 44 CFR 13.50.

• Enforcement. The Regional Director may suspend draw downs from the HHS/Payment Management System-SMARTLINK if quarterly reports are not submitted on time.

Dated: February 26, 2003.
Anthony S. Lowe,
Administrator, Federal Insurance and Mitigation Administration.

[FR Doc. 03-4903 Filed 2-28-03; 8:45 am]

BILLING CODE 6718-04-P